DEPARTMENT OF COMMERCE

National Oceanic and Atmospheric Administration

RIN 0648-XG085

Pacific Fishery Management Council; Public Meeting

AGENCY: National Marine Fisheries Service (NMFS), National Oceanic and Atmospheric Administration (NOAA), Commerce.

ACTION: Notice of a public meeting.

SUMMARY: The Pacific Fishery Management Council (Pacific Council) is sponsoring a meeting to review a new method proposed to improve catch estimation methods in sparsely sampled mixed stock fisheries. The Catch Estimation Methodology Review meeting is open to the public and may be streamed online as a “listen only” webinar.

DATES: The Catch Estimation Methodology Review meeting will commence at 8:30 a.m. PDT, Wednesday, March 28, 2018 and continue until 5 p.m. or as necessary to complete business for the day. The meeting will reconvene on Thursday, March 29, 2018 starting at 8:30 a.m. PDT and continuing as necessary to complete business for the day.

ADDRESSES:

Meeting address: The Catch Estimation Methodology Review meeting will be held at the NMFS Southwest Fisheries Science Center, Santa Cruz Laboratory, 110 McAllister Way, Santa Cruz, CA 95060; telephone: (831) 420-3900 on March 28.

The meeting will be held at the Center for Ocean Health Library, Ocean Health Building, University of California Santa Cruz, 115 McAllister Way, Santa Cruz, CA 95060 in Room 201 on March 29. The Center for Ocean Health Library is next door to the NMFS Southwest Fisheries Science Center.

Although this meeting will be conducted as an in-person meeting, there may also be a “listen-only” webinar option. To attend the “listen-only” webinar, visit: http://www.gotomeeting.com/online/webinar/join-webinar. Enter the Webinar ID: 942-468-499, and your email address (required).

This is a “listen only” broadcast, you may use your computer speakers or headset to listen. If you do not have a headset or computer speakers, you may use your telephone to listen to the meeting by dialing this TOLL number +1 (415) 930-5321 (not a toll-free number); enter the phone attendee audio access code: 580-006-830. There will be no technical assistance available for the “listen only” webinar. If there are technical difficulties, the broadcast may end and may not be restarted.

Council address: Pacific Fishery Management Council, 7700 NE Ambassador Place, Suite 101, Portland, OR 97220-1384; telephone: (503) 820-2280.

FOR FURTHER INFORMATION CONTACT: Ms. Stacey Miller, NMFS Northwest Fisheries Science Center; telephone: (541) 867-0535; or Mr. John DeVore, Staff Officer, Pacific Fishery Management Council; telephone: (503) 820-2413.

SUPPLEMENTARY INFORMATION: The purpose of the Catch Estimation Methodology Review meeting is to review a proposed method for estimating catch of species in sparsely sampled mixed-stock commercial groundfish fisheries. The methodology proponents have developed a Bayesian hierarchical model to estimate species compositions with accurate measures of uncertainty of historical catches landed in mixed species assemblages or market categories. Public comments during the meeting will be received from attendees at the discretion of the chair.

Although non-emergency issues not identified in the meeting agenda may come before the meeting participants for discussion, those issues may not be the subject of formal action during this meeting. Formal action at the meeting will be restricted to those issues specifically listed in this notice and any issues arising after publication of this notice that require emergency action under section 305(c) of the Magnuson-Stevens Fishery Conservation and Management Act, provided the public has been notified of the meeting participants' intent to take final action to address the emergency.

Visitors who are foreign nationals (defined as a person who is not a citizen or national of the United States) will require additional security clearance to access the NMFS Southwest Fisheries Science Center. Foreign national visitors should contact Ms. Stacey Miller at (541) 867-0535 at least 2 weeks prior to the meeting date to initiate the security clearance process.

Technical Information and System Requirements

PC-based attendees: Windows® 7, Vista, or XP operating system required. Mac®-based attendees: Mac OS® X 10.5 or newer required. Mobile attendees: iPhone®, iPad®, Android™ phone or Android tablet required (use GoToMeeting Webinar Apps).

Special Accommodations

This meeting is physically accessible to people with disabilities. Requests for auxiliary aids should be directed to Mr. Kris Kleinschmidt at (503) 820-2411 at least 10 days prior to the meeting date.

Dated: March 7, 2018.
Tracey L. Thompson,
Acting Deputy Director, Office of Sustainable Fisheries, National Marine Fisheries Service.

[FR Doc. 2018-04866 Filed 3-9-18; 8:45 am]

BILLING CODE 3510-22-P